FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012491.

Title: TraPac—SSA Cooper Terminal Discussion Agreement.

Parties: SSA Cooper, LLC and TraPac Inc.

Filing Party: Paul M. Heylman; Saul Ewing LLP; 1919 Pennsylvania Avenue NW., Suite 550; Washington, DC 20006.

Synopsis: The Agreement authorizes TraPac and SSA Cooper to engage in discussions about the possible formation of a new entity or possible cooperation within existing company structures at the Port of Jacksonville, Florida.

Agreement No.: 012067-020.

Title: U.S. Supplemental Agreement to HLC Agreement.

Parties: BBC Chartering Carriers GmbH & Co. KG and BBC Chartering & Logistic GmbH & Co. KG, as a single member; Hanssy Shipping Pte. Ltd.; Industrial Maritime Carriers, L.L.C.; and Rickmers-Linie GmbH & Cie. KG.

Filing Party: Wade S. Hooker, Esq.; 211 Central Park W.; New York, NY 10024.

Synopsis: The amendment deletes Chipolbrok (Chinese-Polish Joint Stock Shipping Company) and J. Poulson Shipping A/S as parties to the U.S. Supplemental Agreement and/or the HLC Agreement and clarifies procedures relating to admission of parties.

By Order of the Federal Maritime Commission.
Dated: September 6, 2017.
Rachel E. Dickon,
Assistant Secretary.

[FR Doc. 2017-19334 Filed 9-11-17; 8:45 am]

BILLING CODE 6731-AA-P